DEPARTMENT OF LABOR

Employment and Training Administration

[TA-W-52,128, TA-W-52,128A, and TA-W-52,128B]

Control Engineering Company, Pellston, MI; Control Engineering Company, Harbor Springs, MI; Control Engineering Company, Boyne City, MI; Notice of Affirmative Determination Regarding Application for Reconsideration

By letter of September 5, 2003, a company official requested administrative reconsideration of the Department of Labor's Notice of Negative Determination Regarding Eligibility to Apply for Worker Adjustment Assistance, applicable to workers of the subject firm. The denial notice was signed on August 15, 2003, and published in the Federal Register on September 2, 2003 (68 FR 52227).

The Department reviewed the request for reconsideration and has determined that the Department will conduct a survey of additional customers that were not contacted in the initial investigation to establish whether imports contributed importantly to separations at the petitioning workers' facilities.

Conclusion

After careful review of the application, I conclude that the claim is of sufficient weight to justify reconsideration of the Department of Labor's prior decision. The application is, therefore, granted.

Signed at Washington, DC, this 8th day of December, 2003.
Elliott S. Kushner,
Certifying Officer, Division of Trade Adjustment Assistance.

[FR Doc. 03-31862 Filed 12-24-03; 8:45 am]

BILLING CODE 4510-30-P